CONSUMER PRODUCT SAFETY COMMISSION

Sunshine Act; Meeting

AGENCY: Consumer Product Safety Commission Washington, DC 20207.

Time and Date: Thursday, January 16, 2003 2 p.m.

Location: Room 410, East West Towers, 4330 East West Highway, Bethesda, Maryland.

Status: Part Open to the Public; Part Closed.

Matters to be Considered:

Open to the Public

1. CPSC Vice Chairman: The Commission will elect a Vice Chairman.

Closed to the Public

2. Compliance Status Report: The staff will brief the Commission on the status of various compliance matters.

For a recorded message containing the latest agenda information, call (301) 504-0709.

Contact Person for Additional Information: Todd A. Stevenson, Office of the Secretary, 4330 East West Highway, Bethesda, MD 20207 (301) 504-0800.

Dated: January 6, 2003.
Todd A. Stevenson,
Secretary.

[FR Doc. 03-647 Filed 1-8-03; 2:40 pm]

BILLING CODE 6355-01-M